DEPARTMENT OF TRANSPORTATION

Federal Highway Administration

Agency Information Collection Activities: Submission for OMB Review

AGENCY: Federal Highway Administration (FHWA), DOT.

ACTION: Notice and request for comments.

SUMMARY: The FHWA has forwarded the information collection requests described in this notice to the Office of Management and Budget (OMB) for review and approval. We published a Federal Register Notice with a 60-day public comment period on these information collections on August 6, 2004 (69 FR 47978) and on November 5, 2004 (69 FR 64623). We are required to publish this notice in the Federal Register by the Paperwork Reduction Act of 1995.

DATES: Please submit comments by February 23, 2005.

ADDRESSES: You may send comments to the Office of Information and Regulatory Affairs, Office of Management and Budget, 725 17th Street, NW., Washington, DC 20503, Attention: DOT Desk Officer. You are asked to comment on any aspect of these information collections, including: (1) Whether the proposed collections are necessary for the FHWA's performance; (2) the accuracy of the estimated burdens;

(3) ways for the FHWA to enhance the quality, usefulness, and clarity of the collected information; and (4) ways that the burdens could be minimized, including the use of electronic technology, without reducing the quality of the collected information.

SUPPLEMENTARY INFORMATION: 1. Title: FHWA Highway Design Handbook For Older Drivers and Pedestrians Workshop Participants' Feedback Survey.

Abstract: The FHWA published a revised handbook, “Guidelines and Recommendations to Accommodate Older Drivers and Pedestrians,” in 2001 that documents new research findings and technical developments that occurred since the 1998 publication of the “Older Driver Highway Design Handbook, Recommendation and Guidelines.” The revised handbook provides practitioners with information that links the characteristics of the older driver road user to highway design and operations, and to traffic engineering recommendations, by addressing specific roadway features. In 1998, the FHWA began conducting workshops for highway designers, traffic engineers, and highway safety specialists involved in the design and operations of highway facilities in order to familiarize practitioners with the recommendations and guidelines presented in the handbook.

The FHWA plans to continue to survey past and future workshop participants. The survey results will be used to determine if recommendations and guidelines presented to practitioners in the workshops are being used in new and redesigned highway facilities to accommodate the needs and functional limitations of an aging population of road users. The survey is also needed to gauge the success of the workshop presentations in imparting information and to determine if adjustments should be considered for future workshops.

Respondents: Approximately 125 participants in past workshops, including highway designers, highway engineers, highway safety specialists, and future workshop participants.

Frequency: This survey of participants will be conducted annually. The survey will be mailed, and for those participants with known e-mail addresses, the survey will be administered electronically to reduce completion time.

Estimated Total Annual Burden Hours: The FHWA estimates that each respondent will complete the survey in approximately 10 minutes. Annual surveys to approximately 125 respondents are estimated to total 21 burden hours.

FOR FURTHER INFORMATION CONTACT: Shirley Thompson, 202-366-2154, Department of Transportation, Federal Highway Administration, Office of Safety, 400 Seventh Street, SW., Washington, DC 20590. Office hours are from 7:30 a.m. to 5 p.m., Monday through Friday, except Federal holidays.

2. Title: Customer Satisfaction Surveys.

Abstract: Executive Order 12862, “Setting Customer Service Standards” requires Federal agencies to provide the highest quality service to their customers by identifying them and determining what they think about the services and products they have received. The planned surveys covered in this request for renewal of a generic clearance will provide the FHWA a means to gather feedback directly from our customers. The information obtained from the surveys will be used to assist the FHWA in evaluating our service delivery and processes. The responses to the surveys will be voluntary and will not involve information that is required by regulations. There will be no direct costs to the respondents other than their time. The FHWA provides an electronic means for responding to the majority of the surveys via the World Wide Web.

Respondents: For all 34 surveys, there will be approximately 52,614 respondents, including State and local governments, highway industry organizations and the general public.

Frequency: A total of 34 agency-wide customer satisfaction surveys are planned over the next 3 years. The survey frequency varies from one-time to annually.

Estimated Total Annual Burden Hours: The estimated burden hours per response will vary with each survey. A few of the surveys will require approximately 30 minutes each to complete; however, the majority of them will take from 5 to 20 minutes each. We estimate a total of 10,700 annual burden hours for all of the surveys.

For Further Information Contact: Connie Yew, 202-366-1078, Department of Transportation, Federal Highway Administration, Office of Professional and Corporate Development, 400 Seventh Street, SW., Washington, DC 20590. Office hours are from 7:30 a.m. to 4:30 p.m., Monday through Friday, except Federal holidays.

Privacy Act

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

Authority: The Paperwork Reduction Act of 1995; 44 U.S.C. Chapter 35, as amended; and 49 CFR 1.48.

James R. Kabel,
Chief, Management Programs and Analysis Division.

[FR Doc. 05-1224 Filed 1-21-05; 8:45 am]

BILLING CODE 4910-22-P